DEPARTMENT OF ENERGY

Letter From the Secretary of Energy Accepting Defense Nuclear Facilities Safety Board (Board) Recommendation 2009-1

AGENCY: Department of Energy.

ACTION: Notice.

SUMMARY: The Department of Energy (DOE) is making available the November 3, 2009, Secretary's letter to the Board accepting the Board's recommendation 2009-1 regarding quantitative risk assessment at defense nuclear facilities.

ADDRESSES: U.S. Department of Energy, HS-1.1, 1000 Independence Ave., SW., Washington, DC 20585.

SUPPLEMENTARY INFORMATION: DOE is making this letter available for public information and solicits comments from the public. Comments may be sent to the address above. The text of the document is below. It may also be viewed at: http://www.hss.energy.gov/deprep/default.asp.

Issued in Washington, DC, on November 10, 2009.
Mark B. Whitaker,
Departmental Representative to the Defense Nuclear Facilities Safety Board.

November 3, 2009

The Honorable John E. Mansfield, Vice Chairman, Defense Nuclear Facilities Safety Board, 625 Indiana Avenue, NW., Suite 700, Washington, DC 20004-2941.

Dear Mr. Vice Chairman:

The Department of Energy (DOE) acknowledges receipt of the Defense Nuclear Facilities Safety Board (Board) Recommendation 2009-1, Risk Assessment Methodologies at Defense Nuclear Facilities, issued on July 30, 2009, and published in the Federal Register on August 12, 2009.

We appreciate the Board's insights on how DOE can better define and use quantitative risk assessment methodologies to support DOE's primary deterministic approach for ensuring nuclear safety. DOE accepts Board Recommendation 2009-1 and will implement it as described in the enclosed Implementation Plan.

I have assigned Mr. Andrew Wallo, III, Deputy Director, Office of Nuclear Safety, Quality Assurance and Environment, Office of Health, Safety and Security, to be the Department's Responsible Manager for developing the Implementation Plan. He can be reached at (202) 586-4996.

Sincerely,

Steven Chu

Enclosure.

[FR Doc. E9-27551 Filed 11-16-09; 8:45 am]

BILLING CODE 6450-01-P